DEPARTMENT OF ENERGY

Federal Energy Regulatory Commission

[Docket No. EG03-59-000, et al.]

Ely Wind Company, LLC, et al.; Electric Rate and Corporate Filings

April 11, 2003.

The following filings have been made with the Commission. The filings are listed in ascending order within each docket classification.

1. Ely Wind Company, LLC

[Docket No. EG03-59-000]

Take notice that on April 9, 2003, Ely Wind Company, LLC (Applicant) filed with the Federal Energy Regulatory Commission (Commission) an Application for Determination of Exempt Wholesale Generator Status pursuant to part 365 of the Commission's regulations.

Applicant states that it is developing a wind-powered eligible facility with a capacity of 50 megawatts, which will be located in Ruth, Nevada.

Comment Date: May 2, 2003.

2. Southwestern Electric Power Company

[Docket No. ER02-2313-002]

Take notice that on April 9, 2003, Southwestern Electric Power Company tendered for filing a refund report in compliance with the Commission's Order dated February 25, 2003.

Comment Date: April 30, 2003.

3. American Electric Power Service Corporation

[Docket No. ER03-400-001]

Take notice that on April 7, 2003, the American Electric Power Service Corporation (AEPSC), on behalf of Ohio Power Company (an operating copany of the American Electric Power System), tendered for filing an Amended Interconnection and Operation Agreement between Ohio Power Company and DPC Northeast Power, LLC. The agreement is pursuant to the AEP Companies' Open Access Transmission Service Tariff (OATT) that has been designated as the Operating Companies of the American Electric Power System FERC Electric Tariff Third Revised Volume No. 6, effective July 31, 2001.

AEP requests an effective date of March 11, 2003. AEPSC states that a copy of the filing was served upon the Public Utilities Commission of Ohio.

Comment Date: April 28, 2003.

4. American Electric Power Service Corporation

[Docket No. ER03-403-001]

Take notice that on April 7, 2003, American Electric Power Service Corporation (AEPSC), on behalf of Indiana Michigan Power Copany (Indiana Michigan), submitted for filing an Amended Interconnection and Operation Agreement between Indiana Michigan Power Company (Indiana Michigan) and South Shore Power, L.L.C., in compliance with the Commission's March 11, 2003, Order, Conditionally Accepting Interconnection Agreement for Filing and Ordering Compliance Filing. The agreement is pursuant to the AEP Companies' Open Access Transmission Service Tariff (OATT) that has been designated as the Operating Companies of the American Electric Power System FERC Electric Tariff, Third Revised Volume No. 6, effective July 31, 2001.

Indiana Michigan requests an effective date of March 14, 2003. AEPSC states that copies of Indiana Michigan's filing have been served upon the Indiana Utility Regulatory Commission and Michigan Public Service Commission.

Comment Date: April 28, 2003.

5. Public Service Company of New Mexico

[Docket No. ER03-711-000]

Take notice that on April 7, 2003, Public Service Company of New Mexico (PNM) submitted for filing several revised sheets to the PNM Open Access Transmission Tariff (FERC Electric Tariff Second Revised Volume No. 4) to incorporate changes and/or updates to reflect current operating conditions and requirements. PNM's filing is available for public inspection at its offices in Albuquerque, New Mexico.

PNM states that copies of the filing have been sent to all PNM Tariff customers, the New Mexico Public Regulation Commission and the New Mexico Attorney General.

Comment Date: April 28, 2003.

6. Southern Power Company

[Docket No. ER03-713-000]

Take notice that on April 7, 2003, Southern Power Company (Southern Power) tendered for filing seeking acceptance of two market-based Purchased Power Agreements by and between: (i) Georgia Power Company (Georgia Power) and Southern Power for Plant McIntosh Units 10 and 11, dated June 3, 2002 (the McIntosh-Georgia Power PPA), and (ii) Savannah Electric and Power Company (Savannah Electric) and Southern Power for Plant McIntosh Units 10 and 11, also dated June 3, 2002 (the McIntosh-Savannah PPA) (collectively referred to as the McIntosh PPAs). The Agreements provide the general terms and conditions for capacity and associated energy sales from Southern Power to Georgia Power and from Southern Power to Savannah Electric commencing June 1, 2005.

Comment Date: April 28, 2003.

7. Ameren Services Company

[Docket No. ER03-714-000]

Take notice that on April 7, 2003, Ameren Services Company (ASC) tendered for filing an executed Service Agreement for Firm Point-to-Point Transmission Service between ASC and Ameren Energy, Inc. ASC asserts that the purpose of the Agreement is to permit ASC to provide transmission service to Ameren Energy, Inc., pursuant to Ameren's Open Access Transmission Tariff.

Comment Date: April 28, 2003.

8. Avista Corporation

[Docket No. ER03-728-000]

Take notice that on April 9, 2003, Avista Corporation (Avista) submitted Notices of Cancellation of the following rate schedules all of which are netting agreements:

Reliant Energy Services, Inc. (formally NorAm), Rate Schedule No. 252, ConAgra Energy Services, Inc., Rate Schedule No. 253; Chelan County PUD No. 1, Rate Schedule No. 254; Salt River Project, Rate Schedule No. 256; Hafslund Energy Trading, LLC, Rate Schedule No. 258; Tractebel Energy Marketing, LLC, Rate Schedule No. 259; PG&E Trading Power, LP, Rate Schedule No. 261; Idaho Power Company, Rate Schedule No. 262; Statoil Energy Trading, Inc., Rate Schedule No. 264; Duke Energy Trading and Marketing, LLC, Rate Schedule No. 266; City of Santa Clara d/b/a Silicon Valley Power, Rate Schedule No. 273; Benton County PUD, Rate Schedule No. 274; Public Service Company of Colorado, Rate Schedule No. 279; Puget Sound Energy, Inc., Rate Schedule No. 283; PPL Montana, LLC, Rate Schedule No. 284; MIECO, Inc., Rate Schedule No. 285; TransAlta Energy Marketing (US) Inc., Rate Schedule No. 291; Sacramento Municipal Utility District, Rate Schedule No. 292.

Avista seeks all waivers necessary to allow the cancellations to be effective as of March 31, 2003. Avista also states that copies of the filing have been provided to all of the rate schedule Counterparties.

Comment Date: April 30, 2003.

9. Avista Corporation

[Docket No. ER03-729-000]

Take notice that on April 9, 2003, Avista Corporation (Avista) submitted Notices of Cancellation of the following rate schedules all of which are netting agreements: Coral Energy, LLP, Rate Schedule No. 269; American Electric Power Rate Schedule No. 270 Service Corporation, British Columbia Power Rate Schedule No. 280; Exchange Corporation (Powerex), IDACORP Energy, LP, Rate Schedule No. 289.

Avista seeks all waivers necessary to allow the cancellations to be effective as of April 6, 2003. Avista also states that copies of the filing have been provided to all of the rate schedule Counterparties.

Comment Date: April 30, 2003.

10. Southern Company Services, Inc.

[Docket No.ER03-730-000]

Take notice that on April 9, 2003, Southern Company Services, Inc. (SCS), acting on behalf of Alabama Power Company, Georgia Power Company, Gulf Power Company, Mississippi Power Company, and Savannah Electric and Power Company (collectively Southern Companies), filed one transmission service agreement under the Open Access Transmission Tariff of Southern Companies (FERC Electric Tariff, Fourth Revised Volume No. 5 (Tariff)). Specifically, the agreement is a long-term firm point-to-point transmission service agreement for service with Southern Company Generation and Energy Marketing (regarding OASIS Request No. 322721) (Service Agreement No. 462).

Comment Date: April 30, 2003.

11. PPL Electric Utilities Corporation

[Docket No. ER03-731-000]

Take notice that on April 9, 2003, PPL Electric Utilities Corporation (PPL Electric) filed a Notice of Cancellation of PPL Electric's FERC Electric Tariff Original Volume No. 1, Original Sheets Nos. 1-34 (Tariff) and all service agreements thereunder. PPL Electric requests that the termination be effective on June 7, 2003.

PPL Electric states that Notice of Cancellation has been served on each of the parties to the service agreements under the Tariff.

Comment Date: April 30, 2003.

12. International Transmission Company

[Docket No. OA03-3-000]

Take notice that on April 4, 2003, International Transmission Company tendered for filing with the Federal Energy Regulatory Commission (Commission) its implementation procedures for the standards of conduct pursuant to section 37.4(c) of the Commission's regulations, 18 CFR 37.4(c).

Comment Date: May 6, 2003.

13. Mirant Las Vegas, LLC; Duke Energy Moapa, LLC; GenWest, LLC; Las Vegas Cogeneration II, LLC; Reliant Energy Bighorn, LLC

[Docket No. TX03-1-001]

Take notice that on April 7, 2003, Mirant Las Vegas, LLC, Duke Energy Moapa, LLC, GenWest, LLC, Las Vegas Cogeneration II, LLC and Reliant Energy Bighorn, LLC (collectively, Applicants) tendered for filing a supplement to their application for an order directing the establishment of physical interconnection of facilities pursuant to sections 210 and 212 of the Federal Power Act, 16 U.S.C. 824(i) and (k), and rules 204 and 206 of the Commission's rules of practice and procedure, 18 CFR 385.204 and 385.206 (Supplemental Application).

Applicants request that the Commission issue an order directing the Los Angeles Department of Water and Power (LADWP), Nevada Power Company, the Salt River Project Agricultural Improvement and Power District, and the United States Department of the Interior, Bureau of Reclamation, as co-owners of the McCullough Substation located in southern Nevada, to establish an interconnection, on reasonable terms and conditions, between their transmission systems and the Applicants via a physical connection with the Nevada Power transmission system at the McCullough Substation, and to provide Applicants with transmission credits, or other appropriate compensation, associated with upgrades to the McCullough Substation. The Applicants also request that the Commission consolidate the Application with proceedings in Docket Nos. ER02-1741-000 and ER02-1742-000.

Comment Date: May 1, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-9680 Filed 4-18-03; 8:45 am]

BILLING CODE 6717-01-P